OFFICE OF GOVERNMENT ETHICS

Agency Information Collection Activities; Information Collection Renewal; Comment Request for OGE Form 450 Executive Branch Confidential Financial Disclosure Report

AGENCY: Office of Government Ethics (OGE).

ACTION: Notice and request for comments.

SUMMARY: After this first round notice and public comment period, the Office of Government Ethics (OGE) plans to request that the Office of Management and Budget (OMB) renew its approval under the Paperwork Reduction Act for an existing information collection, entitled the OGE Form 450 Executive Branch Confidential Financial Disclosure Report.

DATES: Written comments by the public and agencies on this proposed extension are invited and must be received by August 2, 2021.

ADDRESSES: Comments may be submitted to OGE by any of the following methods:

Email: usoge@oge.gov. (Include reference to “OGE Form 450 paperwork comment” in the subject line of the message.)

Mail, Hand Delivery/Courier: Office of Government Ethics, 1201 New York Avenue NW, Suite 500, Attention: Grant Anderson, Assistant Counsel, Washington, DC 20005-3917.

Instructions: Comments may be posted on OGE's website, www.oge.gov. Sensitive personal information, such as account numbers or Social Security numbers, should not be included. Comments generally will not be edited to remove any identifying or contact information.

FOR FURTHER INFORMATION CONTACT: Grant Anderson at the U.S. Office of Government Ethics; telephone: 202-482-9318; TTY: 800-877-8339; Email: ganderso@oge.gov. An electronic copy of the OGE Form 450 is available on OGE's website at https://www.oge.gov. A paper copy may also be obtained, without charge, by contacting Mr. Anderson.

SUPPLEMENTARY INFORMATION:

Title: Executive Branch Confidential Financial Disclosure Report.

Agency Form Number: OGE Form 450.

Abstract: The OGE Form 450 collects information from covered department and agency employees as required under OGE's executive branch wide regulatory provisions in subpart I of 5 CFR part 2634. The basis for the OGE reporting regulation is section 201(d) of Executive Order 12674 of April 12, 1989 (as modified by Executive Order 12731 of October 17, 1990) and section 107(a) of the Ethics in Government Act, 5 U.S.C. app. sec. 107(a). OGE maintains the form in three formats on its website: a PDF version, a 508 compliant PDF version, and an Excel spreadsheet version. OGE seeks renewal of the OGE Form 450 without modification.

OMB Control Number: 3209-0006.

Type of Information Collection: Extension of a currently approved collection.

Type of Review Request: Regular.

Affected Public: Prospective Government employees, including special Government employees, whose positions are designated for confidential disclosure filing and whose agencies require that they file new entrant confidential disclosure reports prior to assuming Government responsibilities.

Estimated Annual Number of Respondents: 30,449.

Estimated Time per Response: 3 hours.

Estimated Total Annual Burden: 91,347 hours.

Request for Comments: OGE is publishing this first round notice of its intent to request paperwork clearance renewal for the OGE Form 450. Public comment is invited specifically on the need for and practical utility of this information collection, the accuracy of OGE's burden estimate, the enhancement of quality, utility and clarity of the information collected, and the minimization of burden (including the use of information technology). Comments received in response to this notice will be summarized for, and may be included with, the OGE request for extension of OMB paperwork approval. The comments will also become a matter of public record.

Approved: May 27, 2021.
Emory Rounds,
Director, U.S. Office of Government Ethics.

[FR Doc. 2021-11553 Filed 6-1-21; 8:45 am]

BILLING CODE 6345-03-P